DEPARTMENT OF HEALTH AND HUMAN SERVICES

Centers for Disease Control and Prevention

Designation of a Class of Employees for Addition to the Special Exposure Cohort

AGENCY: Centers for Disease Control and Prevention (CDC), Department of Health and Human Services (HHS).

ACTION: Notice.

SUMMARY: The Department of Health and Human Services (HHS) gives notice of a decision to designate a class of employees at the Los Alamos National Laboratory, Los Alamos, New Mexico, as an addition to the Special Exposure Cohort (SEC) under the Energy Employees Occupational Illness Compensation Program Act of 2000. On November 9, 2006, the Secretary of HHS designated the following class of employees as an addition to the SEC:

Employees of the Department of Energy predecessor agencies and their contractors or subcontractors who were monitored or should have been monitored for exposure to ionizing radiation associated with radioactive lanthanum (RaLa) operations at Technical Area 10 (Bayo Canyon Site), Technical Area 35 (Ten Site), and Buildings H, Sigma, and U (located within Technical Area 1) for a number of work days aggregating at least 250 work days during the period from September 1, 1944, through July 18, 1963, or in combination with work days within the parameters established for one or more classes of employees in the SEC.

This designation will become effective on December 9, 2006, unless Congress provides otherwise prior to the effective date. After this effective date, HHS will publish a notice in the Federal Register reporting the addition of this class to the SEC or the result of any provision by Congress regarding the decision by HHS to add the class to the SEC.

Pursuant to 42 U.S.C. § 7384q, in a October 11, 2006 letter to the Secretary of HHS, the Advisory Board on Radiation and Worker Health (“the Board”) advised the Secretary of HHS to designate the class as an addition to the SEC. The Board further stated,

“In their evaluation, NIOSH determined that it was difficult to identify people who worked in these areas of LANL based on job classifications. Therefore, the Board recommends that determination of eligibility for this class take into account this difficulty and in the absence of work history or other information to the contrary, workers at the LANL facility during the period in question should be presumed to have worked in the areas in question.”

Since determination of eligibility is not within the authority of HHS, the Board's recommendation on this issue was not included in the HHS designation.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: November 30, 2006.
John Howard,
Director, National Institute for Occupational, Safety and Health, Centers for Disease Control and Prevention.

[FR Doc. 06-9587 Filed 12-7-06; 8:45 am]

BILLING CODE 4160-17-M